DEPARTMENT OF ENERGY

Western Area Power Administration

Post-2004 Resource Pool-Loveland Area Projects

AGENCY: Western Area Power Administration, DOE.

ACTION: Notice of proposed allocation procedures and call for applications.

SUMMARY: Western Area Power Administration (Western), a Federal power marketing agency of the Department of Energy, is publishing this notice of proposed procedures to implement Subpart C—Power Marketing Initiative of the Energy Planning and Management Program Final Rule, 10 CFR part 905. The Energy Planning and Management Program (Program), which was developed in part to implement section 114 of the Energy Policy Act of 1992, became effective on November 20, 1995. Subpart C of the Program provides for establishing project-specific resource pools and allocating power from these pools to new preference customers. These proposed procedures, in conjunction with the Loveland Area Projects Final Post-1989 Marketing Plan (Post-1989 Marketing Plan) will establish the framework for allocating power from the resource pool to be established for the Loveland Area Projects (LAP).

DATES: The comment period on the proposed procedures begins today and ends June 8, 2000. To be assured of consideration, Western must receive all written comments by the end of the comment period. Western will hold public information forums and public comment forums on the proposed procedures on March 14, 21, and 23, 2000, at the following locations and times:

1. March 14, 2000, information forum begins at 10 a.m. Comment forum immediately following in Northglenn, Colorado.

2. March 21, 2000, information forum begins at 10 a.m. Comment forum immediately following in Casper, Wyoming.

3. March 23, 2000, information forum begins at 10 a.m. Comment forum immediately following in Topeka, Kansas.

ADDRESSES: Send written comments regarding these proposed procedures to: Mr. Joel K. Bladow, Regional Manager, Rocky Mountain Customer Service Region, Western Area Power Administration, P.O. Box 3700, Loveland, CO 80539-3003. All documentation developed or retained by Western for the purpose of developing these procedures will be available for inspection and copying at the Rocky Mountain Customer Service Region Office, at 5555 East Crossroads Boulevard., Loveland, CO 80538-8986.

Public information and comment forums will be held at:

1. Holiday Inn Denver-Northglenn, 10 East 120th Avenue, Northglenn, Colorado.

2. The Events Center, 1 Events Drive, Casper, Wyoming.

3. Holiday Inn Topeka West, 605 Fairlawn Road, Topeka, Kansas.

FOR FURTHER INFORMATION CONTACT: Ron Steinbach, Power Marketing Manager, 970-490-7322; David Holland, Contracts and Energy Services Manager, 970-490-7259; or Susan Steshyn, Public Utilities Specialist, 970-490-7237. Written requests for information should be sent to Rocky Mountain Customer Service Region, Western Area Power Administration, P.O. Box 3700, Loveland, CO 80539-3003. After all public comments have been thoroughly considered, Western will prepare and publish Final Post-2004 Resource Pool Allocation Procedures in the Federal Register.

SUPPLEMENTARY INFORMATION: Western published the Final Rule for the Program, 60 FR 54151, October 20, 1995. The rule became effective on November 20, 1995. The goal of the Program is to require planning and efficient electric energy use by Western's long-term firm power customers and to extend Western's firm power resource commitments. One aspect of the Program is to establish project-specific power resource pools when existing resource commitments expire and allocate power from these pools to new preference customers. Existing resource commitments for LAP expire on September 30, 2004. In accordance with the Program, 96 percent of the firm power resources available in 2004 was extended to existing customers. The remaining 4 percent will be placed in a resource pool from which power allocations to new customers will be made following these proposed procedures and the Post-1989 Marketing Plan, 48 FR 38279, August 23, 1983. The Proposed Post-2004 Resource Pool Allocation Procedures for LAP address (1) eligibility criteria; (2) how Western plans to allocate the pool resources to new customers as provided for in the Program; and (3) the terms and conditions under which Western will sell the allocated power.

I. Amount of Pool Resources

Western proposes to allocate up to 4 percent of the LAP long-term firm hydroelectric resource available as of October 1, 2004, as firm power (firm power). Present hydrologic studies indicate that about 28 MW will be available for the summer season and about 24 MW will be available for the winter season. Firm power means firm capacity and associated energy allocated by Western and subject to the terms and conditions specified in Western's long term firm power electric service contracts.

II. General Eligibility Criteria

Western proposes to apply the following general eligibility criteria to applicants seeking an allocation of firm power under the proposed Post-2004 Resource Pool Allocation Procedures.

A. Eligible applicants must be preference entities as defined by section 9c of the Reclamation Project Act of 1939, 43 U.S.C. 485h(c), as amended and supplemented.

B. Eligible applicants must be located within the currently established LAP marketing area.

C. Eligible applicants must not be currently receiving benefits from a current LAP firm power allocation. Eligible Native American applicants are not subject to this requirement.

D. Eligible utility and nonutility applicants must be able to use the firm power directly or be able to sell it directly to retail customers.

E. Eligible applicants that are municipalities, cooperatives, public utility districts, and public power districts, must have utility status by September 30, 2000. Utility status means that the entity has responsibility to meet load growth, has a distribution system, and is ready, willing, and able to purchase Federal power from Western on a wholesale basis.

F. Eligible Native American applicants must be Native American Tribes as defined in the Indian Self Determination Act of 1975, 25 U.S.C. 450b, as amended.

III. General Allocation Criteria

Western proposes to apply the following general allocation criteria to applicants seeking an allocation of firm power under the proposed Post-2004 Resource Pool Allocation Procedures.

A. Allocations of firm power will be made in amounts as determined solely by Western in exercising its discretion under Reclamation Law.

B. An allottee will have the right to purchase such firm power only after executing an electric service contract between Western and the allottee.

C. Firm power allocated under these procedures will be available only to new eligible applicants in LAP's existing marketing area. This marketing area includes parts of Colorado, Kansas, Nebraska, and Wyoming. LAP's marketing area is specifically defined as the portion of Colorado east of the Continental Divide, Mountain Parks Rural Electric Association's service territory in Colorado west of the Continental Divide, the portion of Kansas located in the Missouri River Basin, and the portion of Kansas west of the eastern borders of the counties intersected by the 100th Meridian, the portion of Nebraska west of the 101st Meridian, and Wyoming east of the Continental Divide.

D. Allocations made to Native American Tribes will be based on estimated or actual load developed by the Native American Tribes. Western will adjust inconsistent estimates during the allocation process. Western is willing to assist tribes in developing load estimating methods assuring consistent Native American Tribe load estimates across the region.

E. Allocations made to qualified utility and nonutility applicants will be based on 1998-99 winter season and 1999 summer season loads. Western will apply the Post-1989 Marketing Plan criteria to these loads.

F. Firm capacity and energy will be based upon the applicant's seasonal system load factor.

G. Any electric service contract offered by Western to an applicant shall be executed by the applicant within six (6) months from the date of offer, unless otherwise agreed to in writing by Western.

H. The initial resource pool will be dissolved subsequent to the closing date for executing firm power contracts. Firm power not under contract will be used as Western determines.

I. The minimum allocation shall be 100 kilowatts (kW).

J. The maximum allocation for qualified utility and nonutility applicants shall be 5,000 kilowatts (kW).

K. Contract rates of delivery shall be subject to adjustment in the future as provided for in the Program.

L. Western retains the right to provide the economic benefits of its resources directly to tribes, if unanticipated obstacles to delivering hydropower benefits to Native American Tribes arise.

IV. General Contract Principles

Western proposes to apply the following general contract principles to all applicants receiving an allocation of firm power under the proposed Post-2004 Resource Pool Allocation Procedures.

A. Western, at its discretion and sole determination, reserves the right to adjust the contract rate of delivery on 5 years' notice in response to changes in hydrology and river operations. Any such adjustments shall only take place after a public process.

B. Western shall assist allottees to obtain third-party transmission arrangements to deliver firm power allocated under these proposed procedures; nonetheless, each allottee is ultimately responsible for obtaining its own delivery arrangements.

C. Contracts entered into under the proposed Post-2004 Resource Pool Allocation Procedures shall provide for Western to furnish firm electric service effective from the October 2004 billing period, through the September 2024 billing period.

D. The contracts entered into as a result of these proposed procedures shall incorporate Western's standard provisions for power sales contracts, integrated resource planning, and the general power contract provisions.

V. Applications for Firm Power

Applications for an allocation of firm power under these proposed procedures must be submitted in writing to the Regional Manager, Rocky Mountain Customer Service Region. The application consists of two parts, a Letter of Interest and Applicant Profile Data (APD), which must be received in Western's Rocky Mountain Customer Service Region at P.O. Box 3700, Loveland, Colorado 80539-3003, in accordance with the requirements listed here.

A. Letter of Interest

Each applicant should submit to the Regional Manager, Rocky Mountain Customer Service Region, a Letter of Interest in receiving firm power no later than close of business on June 9, 2000. A Letter of Interest does not obligate an applicant in any way. If an applicant is eligible for an allocation under these proposed procedures, an electric service contract between Western and the allottee will be the binding document.

B. Applicant Profile Data

To remain eligible for an allocation, each applicant must submit two typed copies of the APD to Western's Rocky Mountain Customer Service Region no later than close of business on September 6, 2000. The content and format of the APD follows. Requested information should be submitted in the sequence listed. The applicant must provide all requested information or the most reasonable available estimate. The applicant should note any requested information that does not apply. Western is not responsible for errors in data, missing data, or missing pages. All items in the APD should be answered as if prepared by the organization seeking the allocation.

1. Applicant:

a. Applicant's name and address.

b. Person(s) representing applicant: Please provide the name, address, title, and telephone number of such person(s).

c. Type of organization: For example, municipality, rural electric cooperative, Native American Tribe, state agency, or Federal agency. Please provide a brief description of the organization that will interact with Western contract and billing matters and whether the organization owns and operates its own electric utility system.

d. Applicable law under which the organization was established.

2. Loads:

a. Utility and Nonutility Applicants:

i. If applicable, number and type of customers served; i.e., residential, commercial, industry, military base, agricultural.

ii. The actual monthly maximum demand in (kilowatts) and energy use (in kilowatthours) during the 1998-99 winter season (October 1998 through March 1999) and the 1999 summer season (April 1999 through September 1999).

b. Native American Tribe Applicants:

Estimated maximum demand in kilowatts with a description of the method and basis for this estimated demand.

3. Resources:

a. A list of current power supplies, including the applicant's own generation and purchases from others. For each supply, provide capacity and location.

b. Status of power supply contracts, including contract termination date. Indicate whether power supply is on a firm basis or some other type of arrangement.

4. Transmission:

a. Points of delivery: Provide the preferred point(s) of delivery on Western's system or a third party's system and the required service voltage.

b. Transmission arrangements: Describe the transmission arrangements necessary to deliver firm power to the requested points of delivery.

5. Other Information:

The applicant may provide any other information pertinent to receiving an allocation.

6. Signature:

The signature and title of an appropriate official who is able to attest to the validity of the APD and who is authorized to submit the request for allocation.

C. Western's Consideration of Applications

1. When Western receives the APD, Western will verify that the general eligibility criteria set forth in section II have been met, and that all items requested in the APD have been provided.

a. Western will request in writing additional information from any applicant whose APD is determined to be deficient. The applicant shall have 15 days from the date on Western's letter of request to provide the needed information in writing.

b. If Western determines that the applicant does not meet the general eligibility criteria, Western will send a letter explaining why the applicant did not qualify.

c. If the applicant has met the eligibility criteria, Western will determine the amount of firm power to be allocated pursuant to the general allocation criteria set forth in section III. Western will send a draft contract to the applicant for review which identifies the terms and conditions of the offer and the amount of firm power allocated to the applicant.

2. All firm power shall be allocated according to the procedures in the general allocation criteria set forth in section III.

3. Western reserves the right to determine the amount of firm power to allocate to an applicant, as justified by the applicant in its APD.

VI. Review Under the Regulatory Flexibility Act

The Regulatory Flexibility Act, 5 U.S.C. 601, et seq. (Act), requires Federal agencies to perform a regulatory flexibility analysis if a proposed regulation is likely to have a significant economic impact on a substantial number of small entities. Western has determined that (1) this rulemaking relates to services offered by Western, and, therefore, is not a rule within the purview of the Act, and (2) the impacts of an allocation from Western would not cause an adverse economic impact on a substantial number of such entities. The requirements of this Act can be waived if the head of the agency certifies that the rule will not, if promulgated, have a significant economic impact on a substantial number of small entities. By his execution of this Federal Register notice, Western's Administrator certifies that no significant economic impact on a substantial number of small entities will occur.

VII. Review Under the Paperwork Reduction Act

In accordance with the Paperwork Reduction Act of 1980, 44 U.S.C. 3501-3520, Western has received approval from the Office of Management and Budget (OMB) to collect customer information in this rule, under control number 1910-1200.

VIII. Review Under the National Environmental Policy Act

Western has completed an environmental impact statement on the Program, pursuant to the National Environmental Policy Act of 1969 (NEPA). The Record of Decision was published in the Federal Register on October 12, 1995 (60 FR 53181). Western's NEPA review will assure all environmental effects related to these procedures have been analyzed.

IX. Determination Under Executive Order 12866

DOE has determined that this is not a significant regulatory action because it does not meet the criteria of Executive Order 12866, 58 FR 51735. Western has an exemption from centralized regulatory review under Executive Order 12866; accordingly, no clearance of this notice by OMB is required.

Dated: February 25, 2000.
Michael S. Hacskaylo,
Administrator.

[FR Doc. 00-5948 Filed 3-9-00; 8:45 am]

BILLING CODE 6450-01-P